DEPARTMENT OF STATE

[Public Notice Number 6629]

Request for New Member Applications for the Advisory Committee on Persons With Disabilities

SUMMARY: Applications are being solicited to fill two (possibly 3) vacant positions on the Advisory Committee on Persons with Disabilities of the U.S. Department of State and the U.S. Agency for International Development.

Established on June 23, 2004, and re-chartered on July 3, 2008, the Advisory Committee on Persons with Disabilities serves the Secretary of State and the Administrator of the Agency for International Development in an advisory capacity with respect to the consideration of the interests of persons with disabilities in formulation and implementation of U.S. foreign policy and foreign assistance. The Committee is established under the general authority of the Secretary and the Department of State as set forth in Title 22 of the United States Code, in particular Sections 2656 and 2651a, and in accordance with the Federal Advisory Committee Act, as amended.

The Committee is made up of the Secretary of State, the Administrator of the Agency for International Development and an Executive Director (all ex-officio members); and eight members from outside the United States government. The non-government members of the Committee represent a cross section from not-for-profit organizations, public policy organizations, academic institutions, corporations and other experts on foreign policy or development issues related to persons with disabilities.

Two, possibly three non-government positions on the Committee are currently vacant, and applications are now being accepted for those positions. Individuals who wish to be considered for appointment to the Committee should forward their resumes to Stephanie Ortoleva, Bureau of Democracy, Human Rights and Labor, U.S. Department of State, 2201 “C” St., NW., Room 7822, Washington, DC 20520 by overnight or express mail (not regular postal mail), or by fax to: 202-647-4434 or, in electronic form, to: ortolevas@state.gov. All letters of interest and resumes must be received by July 7, 2009.

The Secretary will appoint the new members of this advisory committee, after consultation with the Administrator of the Agency for International Development, from the list of candidates. The term of membership will be 2 years.

Dated: June 9, 2009.
Stephanie Ortoleva,
Foreign Affairs Officer and Advisory Committee Executive Director, Bureau of Democracy, Human Rights and Labor, Department of State.

[FR Doc. E9-14342 Filed 6-17-09; 8:45 am]

BILLING CODE 4710-18-P